DEPARTMENT OF TRANSPORTATION

Federal Aviation Administration

14 CFR Part 71

[Docket No. FAA-2013-0990; Airspace Docket No. 13-AGL-8]

RIN 2120-AA66

Proposed Modification and Establishment of Air Traffic Service (ATS) Routes in the Vicinity of Huntingburg, IN

AGENCY: Federal Aviation Administration (FAA), DOT.

ACTION: Notice of proposed rulemaking (NPRM).

SUMMARY: This action proposes to modify a VOR Federal airway (V-243) and establish an area navigation (RNAV) route (T-325) in the vicinity of Huntingburg, IN. The FAA is proposing this action due to the scheduled decommissioning of the Huntingburg, IN (HNB), VHF Omnidirectional Range (VOR)/Distance Measuring Equipment (DME) facility that provides navigation guidance for a portion of V-243. This action would enhance the safety and efficient management of aircraft within the National Airspace System (NAS).

DATES: Comments must be received on or before February 10, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0990 and Airspace Docket No. 13-AGL-8 at the beginning of your comments. You may also submit comments through the Internet at http://www.regulations.gov.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0990 and Airspace Docket No. 13-AGL-8) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0990 and Airspace Docket No. 13-AGL-8.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The Huntingburg, IN, (HNB) VOR/DME facility is currently out of service. As a result, aircraft that file V-243 are being vectored between the Bowling Green, KY (BWG), VOR Tactical Air Navigation (VORTAC) and the Terre Haute, IN (TTH), VORTAC. In response to the proponent responsible for the HNB VOR/DME requesting the FAA decommission of the facility, the FAA conducted the required non-rulemaking study and public notice circularization actions to propose decommissioning the facility. As a result, a determination was made to permanently decommission the HNB VOR/DME due to maintenance issues associated with keeping the facility operational. Additionally, the HNB VOR/DME is not on the list of VORs planned for retention in the VOR Minimum Operational Network (MON). Therefore, the ATS routes, fixes, and procedures that utilize the HNB VOR/DME must be amended. With the decommissioning of the HNB VOR/DME, the ground-based navigation aid (NAVAID) coverage is insufficient to ensure the continuity of V-243. The proposed modification to V-243 would result in the segment between BWG and TTH being cancelled, but the remaining segments supported by other NAVAIDs being retained. To cover the cancelled segment of V-243, an RNAV route, T-325, would be established between BWG and TTH.

The Proposal

The FAA is proposing an amendment to Title 14, Code of Federal Regulations (14 CFR) part 71 to amend VOR Federal airway V-243 and establish RNAV route T-325. The scheduled decommissioning of the HNB VOR/DME facility has made this action necessary. The proposed route modification and establishment actions are outlined below.

V-243: V-243 currently extends between Craig, FL (CRG) and TTH. The route segment between BWG and TTH would be cancelled. A new RNAV route, T-325, is proposed, as described below, to replace the cancelled Federal airway route segment, thereby furthering the transition to an RNAV route structure in support of the NextGen initiative.

T-325: This proposed new route would extend between BWG and TTH to replace the cancelled Federal airway route segment of V-243 between BWG and TTH described above. The proposed routing of T-325 between BWG and the APALO, IN, waypoint (WP), and between the new BUNKA, IN, WP and TTH, are exact overlays of the route segments of V-243 proposed for cancellation.

The navigation aid radials cited in the proposed VOR Federal airway route description, below, are stated relative to True north.

Domestic VOR Federal airways are published in paragraph 6010(a) and low altitude RNAV routes (T) are published in paragraph 6011, respectively, of FAA Order 7400.9X dated August 7, 2013, and effective September 15, 2013, which is incorporated by reference in 14 CFR 71.1. The VOR Federal airway and low altitude RNAV route listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that would only affect air traffic procedures and air navigation, it is certified that this proposed rule, when promulgated, would not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010 VOR Federal Airways

* * * * *

V-243 [Amended]

From Craig, FL; Waycross, GA; Vienna, GA; LaGrange, GA; INT LaGrange 342° and Choo Choo, GA, 189° radials; Choo Choo; to Bowling Green, KY.

* * * * *

Paragraph 6011 United States Area Navigation Routes

* * * * *

T-325 Bowling Green, KY to Terre Haute, IN [New]
Bowling Green, KY (BWG) | VORTAC | (Lat. 36°55′43″ N., long. 086°26′36″ W.)
RENRO, KY | WP | (Lat. 37°28′51″ N., long. 086°39′19″ W.)
LOONE, KY | WP | (Lat. 37°44′14″ N., long. 086°45′18″ W.)
APALO, IN | WP | (Lat. 38°00′21″ N., long. 086°51′35″ W.)
BUNKA, IN | WP | (Lat. 39°04′57″ N., long. 087°09′07″ W.)
Terre Haute, IN (TTH) | VORTAC | (Lat. 39°29′20″ N., long. 087°14′56″ W.)

* * * * *

Issued in Washington, DC, on December 18, 2013.
Gary A. Norek,
Manager, Airspace Policy & Regulations Group.

[FR Doc. 2013-30698 Filed 12-24-13; 8:45 am]

BILLING CODE 4910-13-P